Title 3—

The President

Proclamation 7432 of May 4, 2001

Older Americans Month, 2001

By the President of the United States of America

A Proclamation

In cities, towns, and communities across the United States, older Americans make countless contributions to the life of our Nation. Each year, during the month of May, Americans acknowledge in a special way the contributions of older Americans to our society. This year's theme, “The Many Faces of Aging,” calls on us to recognize the richness and the promise of our rapidly increasing older population.

Older adults have much to teach us, from persevering in the face of hardship to sustaining our family structure and caring for those in need. Generations of older Americans have done the hard work of building communities, places of worship, businesses, and schools, laying the foundation for our American way of life. Embodying the steadfast devotion, courage, and sacrifice that our ancestors brought to this country, older Americans continue to energize our national life. Many of these former teachers, leaders of industry, war heroes, and religious figures help new generations learn about our past by taking time out of their lives to share their experiences and to serve as role models. Their values of hard work, determination, compassion, and faith continue to benefit our families and all Americans. As we celebrate Older Americans Month, I encourage Americans to take advantage of the wisdom and experience of our elder citizens.

Working in partnership with States and local organizations, my Administration is proposing that the Federal Government do more to facilitate service opportunities for seniors.

My Administration is committed to improving the quality of life of our Nation's seniors, who are often burdened with concerns about health care. We will strengthen Medicare for the baby boomers and subsequent generations. We will renew the promise made to our seniors and people with disabilities by providing access to affordable prescription drugs and better options to meet their health care needs. By ensuring that our senior citizens live in comfort and security, we honor them and thank them for their service.

NOW, THEREFORE, I, GEORGE W. BUSH, President of the United States of America, by virtue of the authority vested in me by the Constitution and laws of the United States, do hereby proclaim May 2001, as Older Americans Month. I call upon Federal, State, and local government officials, businesses, communities, faith-based organizations, families, health care professionals, volunteers, and all citizens of the United States to publicly reaffirm our Nation's continuing commitment to honor older Americans.

IN WITNESS WHEREOF, I have hereunto set my hand this fourth day of May, in the year of our Lord two thousand one, and of the Independence of the United States of America the two hundred and twenty-fifth.

B

[FR Doc. 01-11849

Filed 5-8-01; 8:45 am]

Billing code 3195-01-P